DEPARTMENT OF LABOR

Office of the Secretary

Submission for OMB Review: Comment Request

March 22, 2010.

The Department of Labor (DOL) hereby announces the submission of the following public information collection request (ICR) to the Office of Management and Budget (OMB) for review and approval in accordance with the Paperwork Reduction Act of 1995 (Pub. L. 104-13, 44 U.S.C. chapter 35). A copy of this ICR, with applicable supporting documentation; including among other things a description of the likely respondents, proposed frequency of response, and estimated total burden may be obtained from the RegInfo.gov Web site at http://www.reginfo.gov/public/do/PRAMain or by contacting Darrin King on 202-693-4129 (this is not a toll-free number)/e-mail: DOL_PRA_PUBLIC@dol.gov.

Interested parties are encouraged to send comments to the Office of Information and Regulatory Affairs, Attn: OMB Desk Officer for the Department of Labor—Employee Benefits Security Administration (EBSA), Office of Management and Budget, Room 10235, Washington, DC 20503, Telephone: 202-395-7316/Fax: 202-395-5806 (these are not toll-free numbers), E-mail: OIRA_submission@omb.eop.gov within 30 days from the date of this publication in the Federal Register. In order to ensure the appropriate consideration, comments should reference the OMB Control Number (see below).

The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Agency: Employee Benefits Security Administration.

Type of Review: Extension without change of a currently approved collection.

Title of Collection: Summary Plan Description Requirements Under ERISA.

OMB Control Number: 1210-0039.

Affected Public: Private sector.

Estimated Number of Respondents: 3,508,000.

Total Estimated Annual Burden Hours: 262,000.

Total Estimated Annual Costs Burden (Operation and Maintenance): $295,148,000.

Description: Section 104(b)(1) of the Employee Retirement Security Act of 1974 (ERISA) requires the administrator of an employee benefit plan to furnish each plan participant and each beneficiary receiving benefits under the plan a copy of the plan's summary plan description (SPD) within 90 days after an individual becomes a participant and (in the case of a beneficiary) within 90 days after an individual first receives benefits, or, if later, within 120 days after the plan first becomes subject to Part 2 of Title I of ERISA. Section 104(b)(1) further specifies that if a plan document is amended, an updated SPD must be furnished subsequently every fifth year, integrating all plan amendments made within such five-year period. If the plan document is not amended, an updated SPD must be sent to participants and beneficiaries every 10th year. The Department's regulations at 29 CFR 2520. 102-2, 102-3, 104b-2, and 104b-3, and provide guidance on the content, frequency, and manner of disclosures required under ERISA to be furnished by employee benefit plans to plan participants and certain specified plan beneficiaries periodically in SPDs, Summaries of Material Modifications, and Summaries of Material Reductions. For additional information, see related notice published in the Federal Register on November 27, 2009 (Vol. 74, page 62351).

Darrin A. King,
Departmental Clearance Officer.

[FR Doc. 2010-6744 Filed 3-25-10; 8:45 am]

BILLING CODE 4510-29-P